DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from April 13, to April 17, 2009.

For further information, please contact Edson Beall via: United States Postal Service mail, at the National Register of Historic Places, 2280, National Park Service, 1849 C St., NW., Washington, DC 20240; in person (by appointment), 1201 Eye St., NW., 8th Floor, Washington DC 20005; by fax, 202-371-2229; by phone, 202-354-2255; or by e-mail, Edson_Beall@nps.gov.

Dated: May 27, 2009.
J. Paul Loether,
Chief, National Register of Historic Places/National Historic Landmarks Program.

Key: State, County, Property Name, Address/Boundary, City, Vicinity, Reference Number, Action, Date, Multiple Name

ARIZONA

Maricopa County

Burgess Lateral Historic District, Adjacent to Arcadia Dr. between the Arizona Canal and Lafayette Blvd., between 47th Pl. and 47th St., Phoenix, 09000221, Listed, 4/16/09

FLORIDA

Hillsborough County

St. Andrews Episcopal Church, 505 N. Marion St., Tampa, 09000200, Listed, 4/15/09

MICHIGAN

Berrien County

Mary's City of David, 1158 E. Britain Ave., Benton Harbor, 09000201, Listed, 4/15/09

Delta County

Richter Brewery, 1615 Ludington St., Escanaba, 09000202, Listed, 4/15/09

Ottawa County,

Robbins, Nathaniel and Esther (Savidge), House, 20 S. 5th Ave., Grand Haven, 09000203, Listed, 4/16/09

Wayne County

River Terrace Apartments, 7700 E. Jefferson St., Detroit, 09000204, Listed, 4/15/09

MISSOURI

Jackson County

Jones, R. Bryson, House, 1045 W. 56th St., Kansas City, 09000205, Listed, 4/15/09

Jackson County

Pennbroke Apartments, 604 W. 10th St., Kansas City, 09000206, Listed, 4/15/09 (Working-Class and Middle-Income Apartment Buildings in Kansas City, Missouri MPS)

Jackson County

Villa Serena Apartment Hotel, 325 Ward Pkwy., Kansas City, 09000207, Listed, 4/15/09

OHIO

Clark County

Old Enon Road Stone Arch Culvert, Rocky Pt. Rd. approx. 185 ft. W. of Old Mill Rd., Enon, 09000209, LISTED, 4/16/09

Cuyahoga County

Inglewood Historic District, Inglewood Dr., Oakridge Dr., Cleveland Heights Blvd., Yellowstone & Glenwood Rds., & Quilliams, Cleveland Heights, 09000210, Listed, 4/15/09

Jackson County

Wells, Harvey, House, 403 E. A St., Wellston, 09000211, Listed, 4/14/09

Tuscarawas County

Railway Chapel, The, 301 Grant St., Dennison, 09000212, Listed, 4/15/09

OKLAHOMA

Blaine County

United States Post Office Watonga, 121 N. Noble Ave., Watonga, 09000213, Listed, 4/17/09 (Oklahoma Post Offices with Section Art MPS)

Coal County

United States Post Office Coalgate, 38 N. Main St., Coalgate, 09000214, Listed, 4/17/09 (Oklahoma Post Offices with Section Art MPS)

Harmon County

United States Post Office Hollis, 120 N. 2nd St., Hollis, 09000215, Listed, 4/17/09 (Oklahoma Post Offices with Section Art MPS)

Marshall County

United States Post Office Madill, 223 W. Lille Blvd., Madill, 09000216, Listed, 4/17/09 (Oklahoma Post Offices with Section Art MPS)

Nowata County

United States Post Office Nowata, 109 N. Pine St., Nowata, 09000217, Listed, 4/17/09 (Oklahoma Post Offices with Section Art MPS)

WEST VIRGINIA

Greenbrier County

Argabrite House, 504 Virginia St., Alderson, 08001236, Listed, 4/16/09

WISCONSIN

Columbia County

Goeres Park, 101 Fair St., Lodi, 09000197, Listed, 4/09/09

Eau Claire County

Roosevelt Avenue Historic District, 415,419,429,443,449 & 455 Roosevelt Ave., Eau Claire, 09000219, Listed, 4/15/09

Salsbury Row House, 302-310 W. Grand Ave., Eau Claire, 09000220, Listed, 4/15/09

[FR Doc. E9-12678 Filed 6-1-09; 8:45 am]

BILLING CODE P